ENVIRONMENTAL PROTECTION AGENCY

[ER-FRL-6250-6]

Environmental Impact Statements and Regulations; Availability of EPA Comments

Availability of EPA comments prepared January 10, 2000 Through January 14, 2000 pursuant to the Environmental Review Process (ERP), under Section 309 of the Clean Air Act and Section 102(2)(c) of the National Environmental Policy Act as amended. Requests for copies of EPA comments can be directed to the Office of Federal Activities at (202) 564-7167. An explanation of the ratings assigned to draft environmental impact statements (EISs) was published in FR dated April 9, 1999 (63 FR 17856).

Draft EISs

ERP No. D-AFS-L65333-OR Rating EC2, Five Rivers Watershed Landscape Management Project, To Restore Terrestrial and Aquatic Habitat, Special-Use-Permit, Siuslaw National Forest, Waldport Ranger District, Lincoln and Lane Counties, OR.

Summary: EPA expressed concerns regarding potential water quality impacts from roads, increased logging, and entry into riparian buffers. EPA requested the Forest Service discuss these concerns in the FEIS.

ERP No. D-BLM-G65071-NM Rating LO, Albuquerque Field Office Riparian and Aquatic Habitats Management, To Restore and Protect,Rio Puerco Resource Management Plan Amendment(RMPA), Cibola, Sandoval, McKinley, Rio Arriba,Bernalillo, Valencia and Santa Fe Counties, NM.

Summary: Because the EIS is programmatic in content and the alternatives considered promote environmental enhancement, EPA has limited its review to insure that the DEIS meets the minimal administrative and procedural requirements established by the NEPA and CEQ Regulations and finds the DEIS to satisfy these requirements and takes no position on the preferred action or the alternatives.

ERP No. D-BLM-G65073-NM Rating LO, Farmington Field Office Riparian and Aquatic Habitat Management, To Restore and Protect,Farmington Riparian and Aquatic Habitat Management Plan, San Juan, McKinley, Rio Arriba and Sandoval Counties, NM.

Summary: Since the EIS is programmatic in content and the alternatives considered promote environmental enhancement, EPA Region 6 has limited its review to ensure that the DEIS meets the minimal administrative and procedural requirements established by NEPA and CEQ Regulations. EPA's limited review finds the DEIS to satisfy these requirements and takes no position on the preferred action or the alternatives.

ERP No. D-FRC-F03007-00 Rating EO2, TriState Pipeline Project, Construction and Operation of Natural Gas Pipeline Facilities,Docket Nos.: CP99-61-000, CP99-62-000, CP99-63-000 and CP99-64-000, Presidential Permit, IL, IN and MI.

Summary: EPA expressed environmental objections with the project. The issues raised include alternatives evaluation, waterbody crossings, sole source aquifer, wetland and woodland impacts and mitigation.

ERP No. D-FRC-J05079-00 Rating EC2, Cabinet Gorge (No. 2058-014) and Noxon Rapids(No. 2075-014) Hydroelectric Project, Relicensing,MT and ID.

Summary: EPA expressed environmental concerns regarding continuation of potential adverse impacts to bull trout, and bank and shoreline erosion and aquatic habitat degradation that results from project operations. EPA also believes further information is needed to explain why a minimum flow release from Noxon Rapids Dam was not recommended. EPA believes the USFWS recommended terms and conditions to protect the bull trout should be included as license conditions, and that corrective actions need to be developed to address bank and shoreline erosion problems.

ERP No. D-NPS-H65007-KS Rating LO, Tallgrass Prairie National Preserve General Management Plan, Implementation, Flint Hills Region, Chase County, KS.

Summary: EPA had a lack of objections to the proposed project.

Final EISs

ERP No. F-FHW-C40142-NY US-20/Broadway (Transit Road to Lancaster East Village Line) Reconstruction, Funding, COE Section 10 and 404 Permit, in the Villages of Depew and Lancaster, Erie County, NY.

Summary: EPA has no further issues with the project.

ERP No. F-FHW-F40365-WI US 151 Highway Project, from Dickeyville to to Belmont, Improvements, Funding and COE Section 404 Permit, Grant and Lafayette Counties, WI.

Summary: The FEIS addressed EPA's previous comments on wetlands, floodplains and other resources.

Dated: January 27, 2000.
B. Katherine Biggs,
Associate Director, Office of Federal Activities.

[FR Doc. 00-2111 Filed 1-28-00; 8:45 am]

BILLING CODE 6560-50-P